DEPARTMENT OF ENERGY

Federal Energy Regulatory Commission

[Project No. 6492-009]

Hardins Manufacturing Company, Hardins Resources Company; Notice of Transfer of Exemption

1. By email filed April 23, 2012, Hardins Manufacturing Company informed the Commission that its exemption from licensing for the Hardins Hydro-Power Project No. 6492, originally issued December 8, 1982,¹ has been transferred to Hardins Resources Company. The project is located on the South Fork, Catawba River in Gaston County, North Carolina. The transfer of an exemption does not require Commission approval.

¹ 21 FERC ¶ 62,400, Order Granting Exemption From Licensing of a Small Hydroelectric Project of 5 Megawatts or Less.

2. Hardins Resources Company, located at 11800 Henderson Road, Clifton, VA 20124 is now the exemptee of the Hardins Hydro-Power Project No. 6492.

Dated: September 12, 2012.
Kimberly D. Bose,
Secretary.

[FR Doc. 2012-23026 Filed 9-18-12; 8:45 am]

BILLING CODE 6717-01-P